DEPARTMENT OF TRANSPORTATION

National Highway Traffic Safety Administration

[Docket No. NHTSA-2012-0107; Notice 1]

The Goodyear Tire & Rubber Company, Receipt of Petition for Decision of Inconsequential Noncompliance

AGENCY: National Highway Traffic Safety Administration, DOT.

ACTION: Receipt of petition.

SUMMARY: The Goodyear Tire & Rubber Company (GOODYEAR),¹ has determined that certain Goodyear brand tires manufactured between April 8, 2012 and May 12, 2012, do not fully comply with paragraph S5.5(c)&(d) of Federal Motor Vehicle Safety Standard (FMVSS) No. 139, New Pneumatic Radial Tires for Light Vehicles. Goodyear has filed an appropriate report dated July 20, 2012, pursuant to 49 CFR part 573, Defect and Noncompliance Responsibility and Reports.

¹ Goodyear Tire & Rubber Company, is a manufacturer of replacement equipment and is registered under the laws of the state of Ohio.

Pursuant to 49 U.S.C. 30118(d) and 30120(h) (see implementing rule at 49 CFR Part 556), Goodyear submitted a petition for an exemption from the notification and remedy requirements of 49 U.S.C. Chapter 301 on the basis that this noncompliance is inconsequential to motor vehicle safety.

This notice of receipt of Goodyear's petition is published under 49 U.S.C. 30118 and 30120 and does not represent any agency decision or other exercise of judgment concerning the merits of the petition.

Vehicles Involved: Affected are approximately 1,692 Goodyear Wrangler AT/S, size LT 275/65R18 brand tires manufactured between April 8, 2012, and May 12, 2012 at its plant in Gadsden, Alabama.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject 1,692 ² tires that Goodyear no longer controlled at the time it determined that the noncompliance existed.

² Goodyear's petition, which was filed under 49 CFR Part 556, requests an agency decision to exempt Goodyear as an equipment manufacturer from the notification and recall responsibilities of 49 CFR Part 573 for the 1,692 affected tires. However, a decision on this petition will not relieve vehicle distributors and dealers of the prohibitions on the sale, offer for sale, introduction or delivery for introduction into interstate commerce of the noncompliant vehicles under their control after Goodyear notified them that the subject noncompliance existed.

Noncompliance: Goodyear explains that the noncompliance is that, due to a mold labeling error, the subject tires are incorrectly labeled as LR-E/Max Load 3415 lbs Max Pressure 80 psi when they should have been labeled as LR-CE/Max Load 2535 lbs Max Pressure 50 psi and thus do not conform to the requirements of 49 CFR 571.139 paragraph S5.5(c)&(d).

Rule Text: Paragraph S5.5 of FMVSS No. 139 requires in pertinent part:

S5.5 Tire markings. Except as specified in paragraphs (a) through (i) of S5.5, each tire must be marked on each sidewall with the information specified in S5.5(a) through (d) and on one side-wall with the information specified in S5.5(e) through (i) according to the phase-in schedule specified in S7 of this standard. The markings must be placed between the maximum section width and the bead on at least one sidewall, unless the maximum section width of the tire is located in an area that is not more than one-fourth of the distance from the bead to the shoulder of the tire. If the maximum section width that falls within that area, those markings must appear between the bead and a point one-half the distance from the bead to the shoulder of the tire, on at least one sidewall. The markings must be in letters and numerals not less than 0.078 inches high and raised above or sunk below the tire surface not less than 0.015 inches * * *

(c) The maximum permissible inflation pressure, subject to the limitations of S5.5.4 through S5.5.6 of this standard;

(d) The maximum load rating and for LT tire, the letter designating the tire load range * * *

Summary of Goodyear's Analysis and Arguments:

Goodyear believes that while the noncompliant tires incorrectly state the load range as required by FMVSS No. 139, it is inconsequential as it relates to motor vehicle safety for the following reasons:

1. The subject tires meet or exceed all applicable FMVSS performance standards for a tire labeled as either load range “E” or “C”.

2. All other markings related to tire service (load capacity, corresponding inflation pressure, etc. * * *) are also correct for the mislabeled tires.

3. The subject tires are identical to the intended LR-C tire with the exception of the sidewall labeling, and therefore, do not present a safety concern.

Goodyear has additionally informed NHTSA that it has corrected future production and that all other tire labeling information is correct.

In summation, Goodyear believes that the described noncompliance of its tires is inconsequential to motor vehicle safety, and that its petition, to exempt it from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: By logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment Closing Date: January 2, 2013.

Authority: 49 U.S.C. 30118, 30120: Delegations of authority at CFR 1.95 and 501.8.

Issued on: November 28, 2012.
Claude H. Harris,
Director, Office of Vehicle Safety Compliance.

[FR Doc. 2012-29142 Filed 11-30-12; 8:45 am]

BILLING CODE 4910-59-P